DEPARTMENT OF HOMELAND SECURITY

Bureau of Customs and Border Protection

Notice of Revocation of Customs Broker Licenses

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker licenses are canceled with prejudice.

Name | License No. | Issuing port
Henry J. Mandil | 20647 | New York.
H.J.M. International Corp | 22892 | New York.
International Drawback Services, Inc | 22735 | Houston.

Dated: December 21, 2007.
Daniel Baldwin,
Assistant Commissioner, Office of International Trade.

[FR Doc. E7-25611 Filed 1-3-08; 8:45 am]

BILLING CODE 9111-14-P